FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 017469NF.

Name: Braverman Enterprises, Inc. dba Customs Brokers Intenational.

Address: 5777 W. Century Blvd., Ste. 535, Los Angeles, CA 90045.

Date Revoked: September 26, 2006.

Reason: Failed to maintain valid bonds.

License Number: 002356NF.

Name: Eastern Freight Forwarders, Inc.

Address: 100 West Middle Road, Riviera Beach, FL 33404.

Date Revoked: September 27, 2006.

Reason: Failed to maintain valid bonds.

Peter J. King,
Deputy Director, Bureau of Certification and Licensing.

[FR Doc. E6-16918 Filed 10-11-06; 8:45 am]

BILLING CODE 6730-01-P